POSTAL SERVICE™

39 CFR Part 20

International Postal Service—Global Expedited Package Services (GEPS) Contracts

AGENCY: Postal Service™.

ACTION: Final rule.

SUMMARY: The Postal Service will revise Mailing Standards of the United States Postal Service, International Mail Manual (IMM®) to incorporate a change concerning the requirements that a mailer must meet in order to qualify for a Global Expedited Package Services (GEPS) contract.

DATES: Effective date: April 1, 2012.

FOR FURTHER INFORMATION CONTACT: Margaret M. Falwell, 202-268-2576.

SUPPLEMENTARY INFORMATION: The United States Postal Service® gives notice that, on January 30, 2012, the Postal Service filed with the Postal Regulatory Commission a notice of a minor classification change for the international competitive product Global Expedited Package Services (GEPS) Contracts. The minor classification change concerns the requirements that a mailer must meet in order to qualify for a GEPS contract. This change is designed for consistency with published commercial plus pricing discounts for Express Mail International and Priority Mail International. The Commission concurred with the notice in its Order No. 1225, issued on February 10, 2012. Documents are available at www.prc.gov, Docket No. MC2012-8.

List of Subjects in 39 CFR Part 20

Foreign relations, International postal services.

Accordingly, 39 CFR Part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

* * * * *

2 Conditions for Mailing

* * * * *

297 Customized Agreements

* * * * *

297.2 Qualifying Mailers

[Revise IMM 297.2 as follows:]

To qualify for a GEPS contract, a mailer must be capable, on an annualized basis, of paying at least $200,000 in international postage to the Postal Service.

* * * * *

We will publish an amendment to 39 CFR part 20 to reflect these changes.

Stanley F. Mires,
Attorney, Legal Policy & Legislative Advice.

[FR Doc. 2012-5049 Filed 3-1-12; 8:45 am]

BILLING CODE 7710-12-P